DEPARTMENT OF HEALTH AND HUMAN SERVICES

National Institutes of Health

Clinical Center; Notice of Meeting

Pursuant to section 10(d) of the Federal Advisory Committee Act, as amended (5 U.S.C. App.), notice is hereby given of a meeting of the NIH Advisory Board for Clinical Research.

The meeting will be open to the public as indicated below, with attendance limited to space available. Individuals who plan to attend and need special assistance, such as sign language interpretation or other reasonable accommodations, should notify the Contact Person listed below in advance of the meeting.

The meeting will be closed to the public in accordance with the provisions set forth in section 552b(c)(9)(B), Title 5 U.S.C., as amended because the premature disclosure of to discuss personnel matters and the discussions would likely to significantly frustrate implementation of recommendations.

Name of Committee: NIH Advisory Board for Clinical Research.

Date: March 21, 2016.

Open: 10:00 a.m. to 1:40 p.m.

Agenda: To review the FY17 Clinical Center Budget and 2016/2017 Strategic and Operating Plan.

Place: National Institutes of Health, Building 10, CRC Medical Board, Room 4-2551, 10 Center Drive, Bethesda, MD 20892.

Closed: 1:40 p.m. to 3:00 p.m.

Agenda: To review and evaluate to discuss personnel matters and/or issues of which the premature disclosure may affect outcomes.

Place: National Institutes of Health, Building 10, CRC Medical Board, Room 4-2551, 10 Center Drive, Bethesda, MD 20892.

Contact Person: Maureen E Gormley, Executive Secretary, Mark O. Hatfield Clinical Research Center, National Institutes of Health, Building 10, Room 6-2551, Bethesda, MD 20892, (301) 496-2897.

Any interested person may file written comments with the committee by forwarding the statement to the Contact Person listed on this notice. The statement should include the name, address, telephone number and when applicable, the business or professional affiliation of the interested person.

In the interest of security, NIH has instituted stringent procedures for entrance onto the NIH campus. All visitor vehicles, including taxicabs, hotel, and airport shuttles will be inspected before being allowed on campus. Visitors will be asked to show one form of identification (for example, a government-issued photo ID, driver's license, or passport) and to state the purpose of their visit.

Information is also available on the Institute's/Center's home page: http://clinicalcenter.nih.gov/about/welcome/governance/advisoryboard.shtml, where an agenda and any additional information for the meeting will be posted when available.

Dated: February 17, 2016.
Michelle Trout,
Program Analyst, Office of Federal Advisory Committee Policy.

[FR Doc. 2016-03648 Filed 2-22-16; 8:45 am]

BILLING CODE 4140-01-P